DEPARTMENT OF HEALTH AND HUMAN SERVICES

Administration for Community Living

[OMB Control Number 0985-New]

Agency Information Collection Activities: Proposed Collection; Public Comment Request; Administration on Disabilities Evaluation of Technical Assistance for Independent Living Grantees

AGENCY: Administration for Community Living, HHS.

ACTION: Notice.

SUMMARY: The Administration for Community Living (ACL) is announcing an opportunity for the public to comment on the proposed collection of information listed above. Under the Paperwork Reduction Act of 1995 (PRA), federal agencies are required to publish a notice in the Federal Register concerning each proposed collection of information, including each proposed extension of an existing collection of information, and to allow 60 days for public comment in response to the notice. This information collection (IC) solicits comments on the IC requirements relating to the Administration on Disabilities Evaluation of Technical Assistance for Independent Living Grantees.

DATES: Comments on the collection of information must be submitted electronically by 11:59 p.m. (EST) or postmarked by February 21, 2023.

ADDRESSES: Submit electronic comments on the collection of information to: Peter Nye at OILPPRAComments@acl.hhs.gov. Submit written comments on the collection of information to Administration for Community Living, 330 C Street SW, Washington, DC, 20201, Attention: Peter Nye.

FOR FURTHER INFORMATION CONTACT: Peter Nye, Administration for Community Living, Washington, DC, 20201, (202) 795-7606 or OILPPRAComments@acl.hhs.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires federal agencies to provide a 60-day notice in the Federal Register concerning each proposed collection of information, including each proposed extension of an existing collection of information, before submitting the collection to OMB for approval.

To comply with this requirement, ACL is publishing a notice of the proposed collection of information set forth in this document. With respect to the following collection of information, ACL invites comments on our burden estimates or any other aspect of this collection of information, including

1. whether the proposed collection of information is necessary for the proper performance of ACL's functions, including whether the information will have practical utility;

2. the accuracy of ACL's estimate of the burden of the proposed collection of information, including the validity of the methodology and assumptions used to determine burden estimates;

3. ways to enhance the quality, utility, and clarity of the information to be collected; and

4. ways to minimize the burden of the collection of information on respondents, including by automated collection techniques when appropriate, and other forms of information technology.

ACL is currently engaged in an effort to better understand the implementation and effectiveness of the technical assistance (TA) provided to Independent Living (IL) grantees (Centers for Independent Living (CILs), statewide independent living councils (SILCs), and designated state entities (DSEs)). The Rehabilitation Act of 1973, as amended authorizes the IL grantees to provide, expand, and improve independent living services for people with disabilities. Title VII, Part C authorizes funding to CILs. Section 711A(a) requires ACL to reserve funds for training and TA to SILCs, and section 721(b)(1) requires ACL to reserve funds for training and TA to CILs. TA efforts can support IL grantees in creating and maintaining effective organizations and services. TA, such as one-on-one TA, peer-to-peer mentoring, and webinars, is made available by the Independent Living Research Utilization (ILRU) program, the Association of Programs for Rural Independent Living (APRIL), the National Association of Statewide Independent Living Councils (NASILC), the National Council on Independent Living (NCIL), and the TA centers that ACL funds, including the Disability Employment TA Center (DETAC) and the Federal Housing and Services Resource Center (HSRC) (referred to as TA providers).

Although ACL monitors these TA providers activities, the effectiveness of the TA approach has yet to be assessed. The goal of this data-collection effort is to provide ACL with IL-grantee feedback on the TA approach, including what elements are effective, that can be incorporated into a future TA strategy that is most beneficial to IL grantees. In this IC, ACL will be surveying a total of approximately 408 Part C CILs, DSEs, and SILCs. The web-based survey will be sent electronically to representatives from all Part C CILs, SILCs, and DSEs. ACL will provide the survey in alternative modes, such as by mail or telephone, on grantee request an alternative mode can be provided. Results from this survey will provide ACL with a better understanding of the implementation and effectiveness of the current TA approach from the perspective of IL grantees.

The proposed data collection tools may be found on the ACL website for review at https://www.acl.gov/about-acl/public-input.

Estimated Program Burden: ACL estimates the burden of this collection of information as follows: The survey will be sent to approximately 408 representatives of CILs, SILCs, and DSEs. The approximate burden for web-based survey completion will be 25 minutes per respondent, which includes time to review the instructions, read the questions, and complete responses. This results in a total survey burden estimate of 10,200 minutes, which is 170 hours.

Respondent/data collection activity | Number of respondents | Responses per respondent | Hours per response | Annual burden hours
Survey | 408 | 1 | 0.41667 | 170
Total | 408 | 1 | 0.41667 | 170

Dated: December 14, 2022.
Alison Barkoff,
Acting Administrator and Assistant Secretary for Aging.

[FR Doc. 2022-27514 Filed 12-19-22; 8:45 am]

BILLING CODE 4154-01-P